DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by Section 2112(b)(2) of the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on October 1, 2021, through October 31, 2021. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading FOR FURTHER INFORMATION CONTACT), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Diana Espinosa,
Acting Administrator.

List of Petitions Filed

1. Violetta Yamini, Washington, District of Columbia, Court of Federal Claims No: 21-1939V

2. Virginia Kindberg, Cincinnati, Ohio, Court of Federal Claims No: 21-1940V

3. Anna Magagna, Ridgewood, New York, Court of Federal Claims No: 21-1943V

4. Linda Speelman, Lino Lakes, Minnesota, Court of Federal Claims No: 21-1944V

5. Elisha M. Price, Corbin, Kentucky, Court of Federal Claims No: 21-1945V

6. Alison Cooke, Norfolk, Virginia, Court of Federal Claims No: 21-1946V

7. Dean Hutchens, Yuma, Arizona, Court of Federal Claims No: 21-1947V

8. Michael Staffaroni,Trumbull, Connecticut, Court of Federal Claims No: 21-1951V

9. Omana Abraham, Boston, Massachusetts, Court of Federal Claims No: 21-1952V

10. Stephen Smith, Trevose, Pennsylvania, Court of Federal Claims No: 21-1953V

11. Richard Muto, Boston, Massachusetts, Court of Federal Claims No: 21-1954V

12. Ryan Carroll, Columbus, Ohio, Court of Federal Claims No: 21-1955V

13. Mikayla Elam, Chicago, Illinois, Court of Federal Claims No: 21-1956V

14. Daniel Wolfe, Bennington, Vermont, Court of Federal Claims No: 21-1957V

15. Sean Edward Mooney, Brentwood, Tennessee, Court of Federal Claims No: 21-1958V

16. Matthew Fogarty and Ashley Fogarty on behalf of A. F., Limerick, Pennsylvania, Court of Federal Claims No: 21-1959V

17. Eric Monte and Kimberly Monte on behalf of D. M., Spring, Texas, Court of Federal Claims No: 21-1960V

18. Julie Shiver, Luverne, Alabama, Court of Federal Claims No: 21-1961V

19. Corletta LaGrange, Indianapolis, Indiana, Court of Federal Claims No: 21-1962V

20. Megan Shipman, O'Fallon, Missouri, Court of Federal Claims No: 21-1963V

21. Gregory Orduno, San Luis Obispo, California, Court of Federal Claims No: 21-1964V

22. Katherine Huntoon, Plano, Texas, Court of Federal Claims No: 21-1965V

23. Marilyn Odessky, Montour Falls, New York, Court of Federal Claims No: 21-1967V

24. Raeanne Richter, Minneapolis, Minnesota, Court of Federal Claims No: 21-1969V

25. Jane Baker, Allenwood, Pennsylvania, Court of Federal Claims No: 21-1971V

26. Phil Soussan, Las Vegas, Nevada, Court of Federal Claims No: 21-1972V

27. Ruth Elverum, Des Moines, Iowa, Court of Federal Claims No: 21-1973V

28. Aletia Bennett, Kingston, Washington, Court of Federal Claims No: 21-1975V

29. Frederick Sofen, Westland, Michigan, Court of Federal Claims No: 21-1976V

30. Michael Relucio, San Diego, California, Court of Federal Claims No: 21-1977V

31. Dale J. Gabor, Brecksville, Ohio, Court of Federal Claims No: 21-1979V

32. Tiffany Reitz, Clermont, Florida, Court of Federal Claims No: 21-1980V

33. David Lee Richard, Wytheville, Virginia, Court of Federal Claims No: 21-1981V

34. James Montgomery, Boston, Massachusetts, Court of Federal Claims No: 21-1983V

35. Jennifer Tutton, Granbury, Texas, Court of Federal Claims No: 21-1985V

36. Michael D. McDaniel, San Diego, California, Court of Federal Claims No: 21-1986V

37. Karyn Mason-Chavez, Scranton, Pennsylvania, Court of Federal Claims No: 21-1989V

38. Arlene F. Priest, Columbia, Missouri, Court of Federal Claims No: 21-1990V

39. Carla Schreiber on behalf of G. K. S., Texas City, Texas, Court of Federal Claims No: 21-1992V

40. Sherry L. Falsetta, Detroit, Michigan, Court of Federal Claims No: 21-1996V

41. Robert Jacobs, Clearwater, Florida, Court of Federal Claims No: 21-1997V

42. Peggy Tully, Ithaca, New York, Court of Federal Claims No: 21-1998V

43. Mary Young, Vandalia, Ohio, Court of Federal Claims No: 21-1999V

44. James Lew Thayer, Redmond, Washington, Court of Federal Claims No: 21-2000V

45. Martin Smith, De Land, Florida, Court of Federal Claims No: 21-2003V

46. Corissa Prescott, York, Pennsylvania, Court of Federal Claims No: 21-2005V

47. Alan Lien, Janesville, Wisconsin, Court of Federal Claims No: 21-2006V

48. Cindy Gaughan, Nashville, Tennessee, Court of Federal Claims No: 21-2007V

49. Beata Nacsa on behalf of A. C., Fairfield, Iowa, Court of Federal Claims No: 21-2008V

50. Carrie Berry, Bloomfield, Iowa, Court of Federal Claims No: 21-2009V

51. Cheryl Rolf on behalf of M. R., Phoenix, Arizona, Court of Federal Claims No: 21-2010V

52. Doris Ames, Spokane, Washington, Court of Federal Claims No: 21-2011V

53. Maryah Bethel, Canon City, Colorado, Court of Federal Claims No: 21-2013V

54. Teresa Knowles, Chehalis, Washington, Court of Federal Claims No: 21-2014V

55. Scott Quenneville, Boston, Massachusetts, Court of Federal Claims No: 21-2015V

56. Theresa Crowell on behalf of Estate of Ernestine Irene Allen, Deceased, Ontario, California, Court of Federal Claims No: 21-2017V

57. Rafael Garcia, San Antonio, Texas, Court of Federal Claims No: 21-2018V

58. Israel Tuchman on behalf of Estate of Ziva Tuchman, Deceased, Ocean Beach, New York, Court of Federal Claims No: 21-2019V

59. Kelley Patterson, Grand Rapids, Michigan, Court of Federal Claims No: 21-2020V

60. Tedros Wondimu, Quincy, Massachusetts, Court of Federal Claims No: 21-2022V

61. Ray Pierce, Rancho Mirage, California, Court of Federal Claims No: 21-2023V

62. Stacy Danforth, Geneva, Ohio, Court of Federal Claims No: 21-2025V

63. Jian Feng Yu, San Francisco, California, Court of Federal Claims No: 21-2026V

64. Drusilla Pearson, Tucson, Arizona, Court of Federal Claims No: 21-2027V

65. Jose Wilson Rojas Guzman, Chowchilla, California, Court of Federal Claims No: 21-2030V

66. Rachel Iospa on behalf of A. I., Staten Island, New York, Court of Federal Claims No: 21-2031V

67. Jerilyn Greenhaw, San Marcos, Texas, Court of Federal Claims No: 21-2032V

68. Wanda Anthony, Henderson, Nevada, Court of Federal Claims No: 21-2033V

69. Isam Suleiman on behalf of Shadeah Suleiman, Sugar Hill, Georgia, Court of Federal Claims No: 21-2034V

70. Julia McNally, Meriden, Connecticut, Court of Federal Claims No: 21-2037V

71. Summer Kulis, Westerville, Ohio, Court of Federal Claims No: 21-2038V

72. Michael Cohen, Anaheim, California, Court of Federal Claims No: 21-2039V

73. Zhuoyi Qiu, San Gabriel, California, Court of Federal Claims No: 21-2040V

74. Morgan Beal, Chicago, Illinois, Court of Federal Claims No: 21-2041V

75. Stephen Wickert, Canton, Illinois, Court of Federal Claims No: 21-2042V

76. Deborah Belker-Frechette, Chanhassen, Minnesota, Court of Federal Claims No: 21-2043V

77. Margaret Achanzar, Hamilton, New Jersey, Court of Federal Claims No: 21-2044V

78. Melanie Cliver, Burlington, New Jersey, Court of Federal Claims No: 21-2045V

79. Stephen Hickner, MD, Ann Arbor, Michigan, Court of Federal Claims No: 21-2046V

80. Sharon Diane Covert on behalf of the Estate Jack Covert, Deceased, Altoona, Pennsylvania, Court of Federal Claims No: 21-2047V

81. Julian San Pedro, New York, New York, Court of Federal Claims No: 21-2048V

82. Raizy Halberstam and Chaim Halberstam on behalf of R. M. H., Monsey, New York, Court of Federal Claims No: 21-2051V

83. Amy Moses on behalf of E. M., Farmington Hills, Michigan, Court of Federal Claims No: 21-2052V

84. Elizabeth Bedson, Peachtree City, Georgia, Court of Federal Claims No: 21-2053V

85. Michelle Edgerson-Briggs, Hammond, Louisiana, Court of Federal Claims No: 21-2054V

86. Julian Garcia, Carrollton, Texas, Court of Federal Claims No: 21-2056V

87. Michael P. Ohlsen, Great Falls, Montana, Court of Federal Claims No: 21-2058V

88. William Mallard, Fairfield Glade, Tennessee, Court of Federal Claims No: 21-2059V

89. Robert Stevens Condie, Dublin, California, Court of Federal Claims No: 21-2061V

90. Michele Trala, West Seneca, New York, Court of Federal Claims No: 21-2062V

91. Rebecca Mouyos, Mebane, North Carolina, Court of Federal Claims No: 21-2063V

92. Latiffa Sharpe, Keller, Texas, Court of Federal Claims No: 21-2064V

93. Altoya Felder-Deas, Sumter, South Carolina, Court of Federal Claims No: 21-2065V

94. Saundra Day, Dallas, Texas, Court of Federal Claims No: 21-2068V

95. Madonna Oliveria, Pineville, Louisiana, Court of Federal Claims No: 21-2070V

96. Kaitlyn King, Phoenix, Arizona, Court of Federal Claims No: 21-2071V

97. Carol Beck, Wauwatosa, Wisconsin, Court of Federal Claims No: 21-2072V

98. Kelsey Dobbs on behalf of S. S., Oklahoma City, Oklahoma, Court of Federal Claims No: 21-2073V

99. Wayne Waggener, Stedman, North Carolina, Court of Federal Claims No: 21-2074V

100. Joseph Scott VanCuren, Boston, Massachusetts, Court of Federal Claims No: 21-2075V

101. Randal S. Blank, M.D., Ph.D., Richmond, Virginia, Court of Federal Claims No: 21-2077V

102. Timothy Garrett, Gilbert, South Carolina, Court of Federal Claims No: 21-2078V

103. Gregory Fluharty, San Antonio, Texas, Court of Federal Claims No: 21-2080V

104. Katia Del Rio-Tsonis, Miamisburg, Ohio, Court of Federal Claims No: 21-2082V

105. Chester Tennyson, Boston, Massachusetts, Court of Federal Claims No: 21-2084V

106. Tiffin Johnson, Durango, Colorado, Court of Federal Claims No: 21-2085V

107. Morgan Fritz, Berea, Kentucky, Court of Federal Claims No: 21-2086V

108. Sandra Wood, St. Petersburg, Florida, Court of Federal Claims No: 21-2088V

109. John George, Dallas, Texas, Court of Federal Claims No: 21-2089V

110. Craig Davis, Greenfield, Wisconsin, Court of Federal Claims No: 21-2090V

111. Julie Eichner, Tarpon Springs, Florida, Court of Federal Claims No: 21-2091V

112. Roy Day, Vancouver, Washington, Court of Federal Claims No: 21-2092V

113. Alan E. Coker, Sudbury, Massachusetts, Court of Federal Claims No: 21-2093V

114. Richard Dean Haugan, Bainbridge Island, Washington, Court of Federal Claims No: 21-2095V

115. Kyle Kelly, North Brunswick, New Jersey, Court of Federal Claims No: 21-2096V

116. Dana Granville, Platteville, Wisconsin, Court of Federal Claims No: 21-2098V

117. Leonardo Alcala Huerta and Justyce Alcala on behalf of E. R. A., Yakima, Washington, Court of Federal Claims No: 21-2100V

118. Jency McClain and Whitney Brooks McClain on behalf of M. M., Phoenix, Arizona, Court of Federal Claims No: 21-2101V

119. James Brown, Richmond, Virginia, Court of Federal Claims No: 21-2102V

120. Natosha Dye on behalf of K. A., Chicago, Illinois, Court of Federal Claims No: 21-2103V

121. Alyona Foertsch, San Mateo, California, Court of Federal Claims No: 21-2105V

122. Michael Rosso on behalf of E. R., Robbinsville Township, New Jersey, Court of Federal Claims No: 21-2107V

123. Jerome Jao, San Diego, California, Court of Federal Claims No: 21-2109V

124. Meghan Waters, Lexington, Kentucky, Court of Federal Claims No: 21-2110V

125. Luz Aurora Vargas de Echavarria, Redlands, California, Court of Federal Claims No: 21-2111V

126. Michael Farrell, Roxbury, Connecticut, Court of Federal Claims No: 21-2112V

127. Marsha Kessler-Bradshaw, Indianapolis, Indiana, Court of Federal Claims No: 21-2114V

[FR Doc. 2021-25508 Filed 11-22-21; 8:45 am]

BILLING CODE 4165-15-P